DEPARTMENT OF LABOR

Mine Safety and Health Administration

Proposed Information Collection; Comment Request; Coal Mine Rescue Teams; Arrangements for Emergency Medical Assistance and Transportation for Injured Persons; Agreements; Reporting Requirements; Posting Requirements

AGENCY: Mine Safety and Health Administration, Labor.

ACTION: 60-Day Notice.

SUMMARY: The Department of Labor, as part of its continuing effort to reduce paperwork and respondent burden, conducts a pre-clearance consultation program to provide the general public and Federal agencies with an opportunity to comment on proposed and continuing collections of information in accordance with the Paperwork Reduction Act of 1995, 42 U.S.C. 3506(c)(2)(A). This program helps to assure that requested data can be provided in the desired format, reporting burden (time and financial resources) is minimized, collection instruments are clearly understood, and the impact of collection requirements on respondents can be properly assessed. Currently, the Mine Safety and Health Administration is soliciting comments concerning the extension of the information collection related to 30 CFR Sections 49.12, 49.13, 49.16, 49.17, 49.18, 49.19, 49.50, 75.1713-1 and 77.1702.

DATES: All comments must be postmarked or received by midnight Eastern Standard Time on August 13, 2013.

ADDRESSES: Comments concerning the information collection requirements of this notice must be clearly identified with “OMB 1219-0144” and sent to the Mine Safety and Health Administration (MSHA). Comments may be sent by any of the methods listed below.

• Federal E-Rulemaking Portal: http://www.regulations.gov. Follow the on-line instructions for submitting comments for docket number [MSHA-2013-0016].

• Regular Mail or Hand Delivery: MSHA, Office of Standards, Regulations, and Variances, 1100 Wilson Boulevard, 21st floor, Room 2350, Arlington, VA 22209-3939.

FOR FURTHER INFORMATION CONTACT: Sheila McConnell, Deputy Director, Office of Standards, Regulations, and Variances, MSHA, at McConnell.Sheila.A@dol.gov (email); 202-693-9440 (voice); or 202-693-9441 (facsimile).

SUPPLEMENTARY INFORMATION:

I. Background

Section 103(h) of the Federal Mine Safety and Health Act of 1977 (Mine Act), 30 U.S.C. 813, authorizes MSHA to collect information necessary to carry out its duty in protecting the safety and health of miners.

30 CFR Part 49, Mine Rescue Teams, Subpart B—Mine Rescue Teams for Underground Coal Mines, sets standards related to the availability of mine rescue teams; alternate mine rescue capability for small and remote mines; inspection and maintenance records of mine rescue equipment and apparatus; physical requirements for mine rescue team members and alternates; and experience and training requirements for team members and alternates. This package covers the following requirements for coal mines.

Section 49.12 requires each operator of an underground coal mine to send the District Manager a statement describing the mine's method of compliance with this standard.

Section 49.13 provides that operators of small and remote mines may submit an application for alternative mine rescue capability to MSHA for approval.

Section 49.16 requires that a person trained in the use and care of a breathing apparatus must inspect and test the apparatus at intervals not exceeding 30 days and must certify by signature and date that the required inspections and tests were done, and record any corrective action taken.

Section 49.17 requires that each member of a mine rescue team be examined annually by a physician who must certify that each person is physically fit to perform mine rescue and recovery work.

Section 49.18 requires that a record of the training received by each mine rescue team member be made and kept on file at the mine rescue station for a period of one year. The operator must provide the District Manager information concerning the schedule of upcoming training when requested.

Section 49.19 requires that each mine have a mine rescue notification plan outlining the procedures to be followed in notifying the mine rescue teams when there is an emergency that requires their services.

Section 49.50 requires underground coal mine operators to certify that each designated coal mine rescue team meets the requirements of 30 CFR part 49 subpart B.

Sections 75.1713-1 and 77.1702 require operators to make arrangements for 24-hour emergency medical assistance and transportation for injured persons and to post this information at appropriate places at the mine, including the names, titles, addresses, and telephone numbers of all persons or services currently available under those arrangements.

II. Desired Focus of Comments

The Mine Safety and Health Administration (MSHA) is soliciting comments concerning the proposed extension of the information collection related to Coal Mine Rescue Teams; Arrangements for Emergency Medical Assistance and Transportation for Injured Persons; Agreements; Reporting Requirements; Posting Requirements. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

OMB clearance requests are available on MSHA's Web site at http://www.msha.gov under “Federal Register Documents” on the right side of the screen by selecting “New and Existing Information Collections and Supporting Statements”. The document will be available on MSHA's Web site for 60 days after the publication date of this notice, and on regulations.gov. Comments submitted in writing or in electronic form will be made available for public inspection on regulations.gov. Because comments will not be edited to remove any identifying information, MSHA cautions the commenter against including any information in the submission that should not be publicly disclosed.

The public also may examine publicly available documents at MSHA, Office of Standards, Regulations, and Variances, 1100 Wilson Boulevard, Room 2350, Arlington, VA 22209-3939.

Questions about the information collection requirements may be directed to the person listed in the FOR FURTHER INFORMATION CONTACT section of this notice.

III. Current Actions

The information obtained from applicants will be used to determine compliance with MSHA's safety and health standards.

MSHA has updated the number of respondents and responses, as well as the total burden hours and burden costs supporting this information collection request.

MSHA does not intend to publish the results from this information collection and is not seeking approval to either display or not display the expiration date for the OMB approval of this information collection.

There are no certification exceptions identified with this information collection and the collection of this information does not employ statistical methods.

Type of Review: Extension without change of a currently approved collection.

Agency: Mine Safety and Health Administration.

Title: Coal Mine Rescue Teams; Arrangements for Emergency Medical Assistance and Transportation for Injured Persons; Agreements; Reporting Requirements; Posting Requirements.

OMB Number: 1219-0144.

Affected Public: Business or other for-profit.

Total Number of Respondents: 477.

Frequency: Various.

Total Number of Responses: 21,379.

Total Burden Hours: 3,345 hours.

Total Annual Respondent or Recordkeeper Cost: $786,928.

Comments submitted in response to this notice will be summarized and included in the request for Office of Management and Budget approval of the information collection request; they will also become a matter of public record.

Dated: June 10, 2013.
George F. Triebsch,
Certifying Officer.

[FR Doc. 2013-14107 Filed 6-13-13; 8:45 am]

BILLING CODE 4510-43-P